DEPARTMENT OF HOMELAND SECURITY

Coast Guard

33 CFR Part 165

[Docket No. USCG-2017-0317]

Safety Zones; Recurring Annual Events Held in Coast Guard Sector Boston Captain of the Port Zone

AGENCY: Coast Guard, DHS.

ACTION: Notice of enforcement of regulation.

SUMMARY: The Coast Guard will enforce two safety zones within the Captain of the Port Boston zone on August 31, 2017. This action is necessary to ensure the safety of vessels, spectators, and participants from hazards associated with fireworks displays. During the enforcement period, no person or vessel, except for the safety vessels assisting with the events, may enter the safety zones without permission of the Captain of the Port (COTP) or his designated on-scene representative.

DATES: The regulation in 33 CFR 165.119(a)(2) and (4) will be enforced during the dates and times in the table displayed in SUPPLEMENTARY INFORMATION below.

FOR FURTHER INFORMATION CONTACT: If you have questions about this notice of enforcement, call or email Mark Cutter, Sector Boston Waterways Management Division, U.S. Coast Guard; telephone 617-223-4000, email Mark.E.Cutter@uscg.mil.

SUPPLEMENTARY INFORMATION: The Coast Guard will enforce the safety zones listed in 33 CFR 165.119(a)(2) and (4) on the specified dates and times as indicated in the following table:

33 CFR 165.119
Name | Location | Date | Time
Long Wharf Safety Zone | All U.S. navigable waters of Boston inner Harbor within a 700-foot radius of the fireworks barge in approximate position 42°21′41.2″ N. 071°02′36.5″ W. (NAD 1983), located off of Long Wharf, Boston, MA | August 31, 2017 | 8 p.m. to 10 p.m.
Pier 6 Safety Zone | All U.S. navigable waters of Boston inner Harbor within a 700-foot radius of the fireworks barge in approximate position 42°21′11.9″ N. 071°02′1.3″ W. (NAD 1983), located off of Pier 6, South Boston, MA | August 31, 2017 | 8 p.m. to 10 p.m.

The final rule establishing these safety zones was published in the Federal Register on May 12, 2014 (79 FR 26846).

This notice of enforcement is issued under authority of 33 CFR 165.119 and 5 U.S.C. 552 (a). During the enforcement period, persons and vessels are prohibited from entering into, transiting through, mooring, or anchoring within the safety zone unless they receive permission from the COTP or designated representative. In addition to this notice of enforcement in the Federal Register, the Coast Guard plans to provide mariners with advanced notification of this enforcement period via the Local Notice to Mariners.

Dated: August 21, 2017.
C.C. Gelzer,
Captain, U.S. Coast Guard, Captain of the Port Boston.

[FR Doc. 2017-18030 Filed 8-24-17; 8:45 am]

BILLING CODE 9110-04-P